COMMITTEE FOR PURCHASE FROM PEOPLE WHO ARE BLIND OR SEVERELY DISABLED

Procurement List; Additions and Deletion

AGENCY: Committee for Purchase From People Who Are Blind or Severely Disabled.

ACTION: Additions to and deletion from Procurement List.

SUMMARY: This action adds to the Procurement List products and services to be furnished by nonprofit agencies employing persons who are blind or have other severe disabilities, and deletes from the Procurement List products previously furnished by such agencies.

DATES: Effective Date: September 10, 2006.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION:

Additions

On June 9 and June 16, 2006, the Committee for Purchase From People Who Are Blind or Severely Disabled published notices (71 FR 33437, 33438; 34884, 34885) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Product/NSNs: Bag, Fecal Incontinent.

6530-00-NSH-0044.

NPA: Work, Incorporated, North Quincy, MA.

Contracting Activity: Veterans Affairs National Acquisition Center, Hines, Illinois.

Product/NSNs: SKILCRAFT Cellulose Mop & Refill.

M.R. 1089—Cellulose Sponge Mop with Plastic Mop Head, Metal Handle.

M.R. 1099—Refill, Cellulose Sponge Mop.

SKILCRAFT Melamine Mop & Refill.

M.R. 1088—Big Butterfly Mop with Melamine Sponge and Scrubber Strip.

M.R. 1098—Refill, Melamine Sponge Mop.

NPA: L.C. Industries for the Blind, Inc., Durham, North Carolina.

Contracting Activity: Defense Commissary Agency (DeCA), Fort Lee, Virginia.

Product/NSNs: SKILCRAFT Spritz n' Mop.

M.R. 1087.

M.R. 1097—Refill.

NPA: Winston-Salem Industries for the Blind, Winston-Salem, North Carolina.

Contracting Activity: Defense Commissary Agency (DeCA), Fort Lee, Virginia.

Services

Service Type/Location: Custodial Services, Army Corps of Engineers—Eastern Area Office, 926 SW. Adams Street, Suite 110, Peoria, Illinois.

NPA: Community Workshop and Training Center, Inc., Peoria, Illinois.

Contracting Activity: U.S. Army Corps of Engineers, Rock Island, Illinois.

Service Type/Location: Custodial Services, Denver Federal Center, Buildings 41, 44, and 48, Denver, Colorado.

NPA: Aspen Diversified Industries, Inc., Colorado Springs, Colorado.

Contracting Activity: GSA, PBS Region 8, Denver, Colorado.

Service Type/Location: Custodial Services, Frank Peregory U.S. Army Reserve Center, 1634 Cherry Ave, Charlottesville, Virginia.

NPA: WorkSource Enterprises, Charlottesville, Virginia.

Contracting Activity: 99th Regional Support Command, Coraopolis, Pennsylvania.

Service Type/Location: Custodial Services, Social Security Administration Building, 88 South Laurel Street, Hazelton, Pennsylvania.

NPA: United Rehabilitation Services, Inc., Wilkes-Barre, Pennsylvania.

Contracting Activity: GSA Public Buildings Service, Region 3, Pittsburgh, Pennsylvania.

Service Type/Location: Custodial Services, Tahoma National Cemetery, 18600 240th Avenue, SE., Kent, Washington.

NPA: Northwest Center for the Retarded, Seattle, Washington.

Contracting Activity: Department of Veterans Affairs, Tacoma, Washington.

Service Type/Location: Custodial Services, Wayne L. Morse Federal Courthouse, 455 E. 8th Avenue, Eugene, Oregon.

NPA: Garten Services, Inc., Salem, Oregon.

Contracting Activity: GSA, Public Buildings Service—Region 10, Auburn, Washington.

Service Type/Location: Document Destruction, Internal Revenue Service, 474 South Court Street, Room 361, Montgomery, Alabama.

NPA: United Cerebral Palsy of Greater Birmingham, Inc., Birmingham, Alabama.

Contracting Activity: U.S. Treasury, IRS, Chamblee, Georgia.

Service Type/Location: Grounds/Custodial/Security Services, Lake Okeechobee and Outlying Areas, Army Corps of Engineers, Lake Okeechobee, Florida.

NPA: Gulfstream Goodwill Industries, Inc., West Palm Beach, Florida.

Contracting Activity: U.S. Army Corps of Engineers, Jacksonville, Florida.

Service Type/Location: Warehousing, National Institute of Environmental Health Science, Research Triangle Park, Durham, North Carolina.

NPA: Employment Source, Inc., Fayetteville, North Carolina.

Contracting Activity: National Institute of Environmental Health Science, Durham, North Carolina.

Deletion

On June 9, 2006, the Committee for Purchase From People Who Are Blind or Severely Disabled published notice (70 FR 33438) of proposed deletion to the Procurement List.

After consideration of the relevant matter presented, the Committee has determined that the product listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the product to the Government.

3. There are no known regulatory alternatives which would accomplish the objectives of the Javits-Wagner-O'Day Act (41 U.S.C. 46-48c) in connection with the product deleted from the Procurement List.

End of Certification

Accordingly, the following product is deleted from the Procurement List:

Product

Product/NSNs: Shampoo, Coal Tar.

6505-00-997-8531.

NPA: NYSARC, Inc., Seneca-Cayuga Counties Chapter, Waterloo, New York.

Contracting Activity: Department of Veterans Affairs, Washington, DC.

Sheryl D. Kennerly,
Director, Information Management.

[FR Doc. E6-13162 Filed 8-10-06; 8:45 am]

BILLING CODE 6353-01-P